ENVIRONMENTAL PROTECTION AGENCY

[FRL-9482-7]

Notification of Two Public Teleconferences; Clean Air Scientific Advisory Committee

AGENCY: Environmental Protection Agency (EPA).

ACTION: Notice.

SUMMARY: The Environmental Protection Agency (EPA or Agency) Science Advisory Board (SAB) Staff Office announces two public teleconferences of the chartered Clean Air Scientific Advisory Committee (CASAC) to discuss its draft review of EPA's Integrated Science Assessment for Lead (First External Review Draft, May 2011) and EPA's draft Near-Road NO2 Monitoring Technical Assistance Document.

DATES: A public teleconference call will be held on November 28, 2011 from 10 a.m. to 12 p.m. (Eastern Time). Another teleconference will be held on January 27, 2012 from 10 a.m. to 12 p.m.

ADDRESSES: The public teleconferences will be conducted by telephone only.

FOR FURTHER INFORMATION CONTACT: Any member of the public wishing further information regarding this Notice and public teleconference may contact Dr. Holly Stallworth, Designated Federal Officer (DFO), SAB Staff Office, by telephone/voice mail at (202) 564-2073; by fax at (202) 565-2098 or via e-mail at stallworth.holly@epa.gov. General information concerning the EPA CASAC can be found at the EPA CASAC Web site at http://www.epa.gov/casac. Any inquiry regarding EPA's Integrated Science Assessment for Lead (First External Review Draft, May 2011) should be directed to Dr. Ellen Kirrane, EPA Office of Research and Development, at kirrane.ellen@epa.gov or 919-541-1340. Any inquiry regarding EPA's draft Near-Road NO2 Monitoring Technical Assistance Document should be directed to Mr. Nealson Watkins, EPA Office of Air Quality Planning and Standards (OAQPS) at watkins.nealson@epa.gov or 919-541-5522.

SUPPLEMENTARY INFORMATION:

Background: The CASAC was established pursuant to the under the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the chartered CASAC will hold a public teleconference call to review draft letters on Integrated Science Assessment for Lead (First External Review Draft, May 2011) and EPA's draft Near-Road NO2 Monitoring Technical Assistance Document and EPA's.

The Office of Research and Development has requested CASAC review of the Integrated Science Assessment supporting EPA's review of the National Ambient Air Quality Standards for lead. The CASAC Lead Review Panel reviewed the EPA's Integrated Science Assessment for Lead (First External Review Draft, May 2011) and is preparing a draft report for review by the chartered CASAC. The chartered CASAC will review the draft review of the CASAC Lead Review Panel on November 28, 2011 from 10 a.m. to 12 p.m. More information about this advisory activity can be found at http://yosemite.epa.gov/sab/sabproduct.nsf/fedrgstr_activites/Lead%20ISA?OpenDocument.

EPA's Office of Air and Radiation (OAR) requested CASAC review of a draft technical document entitled “Near-Road NO2 Monitoring Technical Assistance Document” (Draft, August 11, 2011) to provide state and local air monitoring agencies with recommendations and ideas on how to successfully implement near-road NO2 monitors required by the 2010 revisions to the NO2 minimum monitoring requirements. The CASAC Air Monitoring and Methods Subcommittee is preparing a draft report for review by the chartered CASAC. The chartered CASAC will review the draft letter on January 27, 2012 from 10 a.m. to 12 p.m. More information about this advisory activity can be found at http://yosemite.epa.gov/sab/sabproduct.nsf/fedrgstr_activites/Near-road%20Network%20Design?OpenDocument.

Availability of Meeting Materials: The agendas and other materials in support of these teleconferences will be placed on the EPA CASAC Web site at http://www.epa.gov/casac in advance of the each teleconference.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the CASAC will have the most impact if it provides specific scientific or technical information or analysis for CASAC to consider or if it relates to the clarity or accuracy of the technical information. Members of the public wishing to provide comment on this advisory activity should contact the Designated Federal Officer for the relevant advisory committee directly.

Oral Statements: In general, individuals or groups requesting an oral presentation at this public teleconference will be limited to three minutes per speaker. Interested parties should contact Dr. Holly Stallworth, DFO, in writing (preferably via e-mail), at the contact information noted above, at least one week prior to each teleconference. To be placed on the public speaker list for the November 28, 2011 teleconference, please contact Dr. Stallworth by November 21, 2011. Likewise, to be placed on the public speaker list for the January 27, 2012 teleconference, please contact Dr. Stallworth by January 20, 2012.

Written Statements: Written statements should be received in the SAB Staff Office by the same deadlines enumerated above (one week prior) so that the information may be made available to the Panel for their consideration. Written statements should be supplied to the DFO in electronic format via e-mail (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Dr. Holly Stallworth at the phone number or e-mail address noted above, preferably at least ten days prior to the meeting, to give EPA as much time as possible to process your request.

Dated: October 17, 2011
Vanessa T.
Director, EPA Science Advisory Board Staff Office.

[FR Doc. 2011-27433 Filed 10-21-11; 8:45 am]

BILLING CODE 6560-50-P